DEPARTMENT OF COMMERCE

National Oceanic and Atmospheric Administration

RIN 0648-XD935

Mid-Atlantic Fishery Management Council (MAFMC); Fisheries of the Northeastern United States; Scoping Process

AGENCY: National Marine Fisheries Service (NMFS), National Oceanic and Atmospheric Administration (NOAA), Commerce.

ACTION: Notice of intent to prepare an environmental impact statement (EIS); notice of initiation of scoping process; notice of public scoping meetings; request for comments.

SUMMARY: The Mid-Atlantic Fishery Management Council announces its intent to prepare, in cooperation with NMFS, either an amendment to the fishery management plan for golden tilefish or a new fishery management plan. In either case, the reason for action is to develop conservation and management measures for blueline tilefish off the Mid-Atlantic. To support this effort, the Council may prepare an environmental impact statement in accordance with the National Environmental Policy Act to analyze the impacts of any proposed management measures. This notice announces a public process for determining the scope of issues to be addressed, for identifying concerns and potential alternatives related to management of blueline tilefish off the Mid-Atlantic, and for determining the appropriate level of environmental analysis. This notice alerts the interested public of the scoping process, the potential development of an environmental impact statement or environmental assessment as appropriate, and provides for public participation in that process. Five scoping hearings will be held in June 2015 for this action.

DATES: The meetings will be held between June 1, 2015, and June 18, 2015, as described below. Written comments must be received on or before July 6, 2015.

ADDRESSES: There will be five scoping meetings with the following dates/times/locations:

1. Monday June 1, 2015, 6:00 p.m. Hyatt Place Long Island/East End. 451 E Main St, Riverhead, NY 11901. Telephone: (631) 208-0002.

2. Tuesday June 2, 2015, 6:00 p.m. Congress Hall Hotel. 251 Beach Ave, Cape May, NJ 08204. Telephone: (888) 944-1816.

3. Tuesday June 16, 2015, 6:00 p.m. Dare County Administrative Building. Commissioners Meeting Room, 954 Marshall C. Collins Drive, Manteo, NC 27954. Telephone: (252) 475-5700.

4. Wednesday June 17, 2015, 6:00 p.m. Hilton Virginia Beach Oceanfront. 3001 Atlantic Ave, Virginia Beach, VA 23451. Telephone: (757) 213-3000.

5. Thursday, June 18, 5:00 p.m. Ocean City Chamber of Commerce. Eunice Q. Sorin Visitor & Conference Center. 12320 Ocean Gateway, Ocean City, Maryland 21842. Telephone: (410) 213-0552.

Comment addresses: Written comments may be sent by any of the following methods:

• Email to the following address: jdidden@mafmc.org; Include “Blueline Tilefish Scoping Comments” in the subject line (recommended); there will also be an online comment submission form at http://www.mafmc.org/actions/blueline-tilefish.

• Mail or hand-deliver to Dr. Christopher M. Moore, Executive Director, Mid-Atlantic Fishery Management Council, 800 North State Street, Suite 201, Dover, Delaware 19901. Mark the outside of the envelope “Blueline Tilefish Scoping Comments”; or

• Fax to (302) 674-5399.

• Comments may also be provided verbally at any of the public scoping meetings.

FOR FURTHER INFORMATION CONTACT: Christopher M. Moore, Ph.D., Executive Director, Mid-Atlantic Fishery Management Council; telephone: (302) 526-5255. The MAFMC's Web site, www.mafmc.org (see “Current Issues”) also has details on the meeting locations and background materials. A scoping informational document and presentation recording will be posted to http://www.mafmc.org/actions/blueline-tilefish no later than May 25, 2015.

SUPPLEMENTARY INFORMATION: The South Atlantic Fishery Management Council (SAFMC) manages blueline tilefish south of the Virginia/North Carolina border. There are currently (as of May 11, 2015) no management measures for blueline tilefish in Federal waters north of North Carolina. Virginia and Maryland have instituted regulations for state waters, but catches in any Federal waters north of North Carolina may be landed from Delaware north without restriction. Blueline tilefish are likely susceptible to overfishing due to their life history (relatively long-lived, sedentary, slow growing, and late maturing) so the MAFMC is considering developing conservation and management measures. These measures could be considered via an amendment to the MAFMC's Golden Tilefish Fishery Management Plan (FMP), or a new FMP for blueline tilefish and/or other deep-water fish such as sand tilefish, snowy grouper, and black-bellied rosefish. Management measures could include a definition of the management unit, as well as acceptable biological catches, annual catch limits, essential fish habitat, trip limits and/or minimum fish sizes for the commercial or recreational fisheries, etc.

For waters north of North Carolina, in response to recent catch increases, the MAFMC has already requested NMFS take emergency action to implement a 300-lb (136-kg) (whole weight) commercial trip limit and a seven-fish per person recreational possession limit. This request was the result of a February 25, 2015, MAFMC meeting, the details of which may be found at: http://www.mafmc.org/briefing/2015/february-2014-blueline-tilefish-webinar-meeting. These emergency measures are intended to prevent depletion of blueline tilefish off the Mid-Atlantic on an interim basis (for a maximum of 366 days) while the Council develops long-term management measures through the normal Magnuson-Stevens Act process.

The SAFMC has also requested that NMFS (via an emergency rule) extend management measures recently enacted in the Southeastern Region (March 30, 2015; 80 FR 16583) north to apply to all Federal waters off the U.S. East Coast. Because any emergency rule can only be in effect for a maximum of 366 days, the MAFMC is moving ahead with scoping for an amendment or new FMP to develop long-term management and conservation measures for blueline tilefish off the Mid-Atlantic.

This is the first and best opportunity for members of the public to raise concerns related to the scope of issues that will be considered in the Council's action. The MAFMC needs your input both to identify management issues and develop effective alternatives. Potential management measures could include a definition of the management unit, as well as acceptable biological catches, annual catch limits, essential fish habitat, trip limits and/or minimum fish sizes for the commercial or recreational fisheries, and/or other measures that may be deemed appropriate. Your comments early in the FMP/amendment development process will help us address issues of public concern in a thorough and appropriate manner. Comment topics could include the scope of issues in the FMP or amendment, concerns and potential alternatives related to blueline tilefish management. Comments can be made during the scoping hearings as detailed above or in writing. After scoping, the MAFMC plans to develop a range of management alternatives to be considered and prepare a draft environmental impact statement (EIS) and/or other appropriate environmental analyses. A new FMP would require an EIS, while an amendment to the existing Golden Tilefish FMP may require an EIS or an Environmental Assessment. These analyses will consider the impacts of the management alternatives being considered, as required by National Environmental Policy Act. Following a review of any comments on the draft analyses, the MAFMC will then choose preferred management measures for submission with a Final EIS or Environmental Assessment to the Secretary of Commerce for review and consideration for approval. Approved management measures would be implemented through publication of proposed and final rules, which include additional opportunity for public comment.

Special Accommodations

These meetings are physically accessible to people with disabilities. Requests for sign language interpretation or other auxiliary aid should be directed to M. Jan Saunders, (302) 526-5251, at least 5 days prior to the meeting date.

Dated: May 14, 2015.
Emily H. Menashes,
Acting Director, Office of Sustainable Fisheries, National Marine Fisheries Service.

[FR Doc. 2015-12261 Filed 5-20-15; 8:45 am]

BILLING CODE 3510-22-P